DEPARTMENT OF HEALTH AND HUMAN SERVICES

National Institutes of Health

National Heart, Lung, and Blood Institute; Notice of Meeting

Pursuant to section 10(a) of the Federal Advisory Committee Act, as amended, notice is hereby given of a meeting of the Sleep Disorders Research Advisory Board.

The meeting will be open to the public, with attendance limited to space available. Individuals who plan to attend and need special assistance, such as sign language interpretation or other reasonable accommodations, should notify the Contact Person listed below in advance of the meeting.

Name of Committee: Sleep Disorders Research Advisory Board.

Date: December 7-8, 2017.

Time: December 7, 2017, 1:00 p.m. to 5:00 p.m.

Agenda: Evaluate sleep and circadian research activities; discuss plans for the proposed revision of the NIH Sleep Disorders Research Plan, and potential opportunities for the inter-agency coordination activities.

Place: National Institutes of Health, Two Rockledge Center, Conference Room 9112-9116, 6701 Rockledge Drive, Bethesda, MD 20892.

Time: December 8, 2017, 8:00 a.m. to 3:00 p.m.

Agenda: Evaluate sleep and circadian research activities; discuss plans for the proposed revision of the NIH Sleep Disorders Research Plan, and potential opportunities for the inter-agency coordination activities.

Place: National Institutes of Health, Two Rockledge Center, Conference Room 9112-9116, 6701 Rockledge Drive, Bethesda, MD 20892.

Contact Person: Michael J. Twery, Ph.D., Director, National Center on Sleep Disorders, Research Division of Lung Diseases, National Heart, Lung, and Blood Institute, National Institutes of Health, 6701 Rockledge Drive, Suite 10170, Bethesda, MD 20892-7952, 301-435-0199, twerym@nhlbi.nih.gov.

Information is also available on the Institute's/Center's home page: https://www.nhlbi.nih.gov/about/committees/sdrab/, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: November 7, 2017.
Michelle Trout,
Program Analyst, Office of Federal Advisory Committee Policy.

[FR Doc. 2017-24572 Filed 11-13-17; 8:45 am]

BILLING CODE 4140-01-P